DEPARTMENT OF COMMERCE

National Oceanic and Atmospheric Administration

15 CFR Part 950

[Docket No: 230814-0192]

RIN 0648-BM35

Schedule of Fees for Access to NOAA Environmental Data, Information, and Related Products and Services

AGENCY: National Environmental Satellite, Data and Information Service (NESDIS), National Oceanic and Atmospheric Administration (NOAA), Department of Commerce.

ACTION: Final rule.

SUMMARY: In this final rule, NESDIS establishes a new schedule of fees for special access to NOAA data, information, and related products and services. NOAA continues to make its environmental data available to the public without any fee in most instances, primarily via NOAA's Comprehensive Large Array-Data Stewardship System (CLASS). NESDIS is revising the fee schedule that has been in effect since 2021 to ensure that the fees accurately reflect the costs of providing access to the environmental data, information, and related products and services.

DATES: Effective September 30, 2023.

FOR FURTHER INFORMATION CONTACT: Arpine Petrosyan, (301)713-7206

SUPPLEMENTARY INFORMATION:

Background

NESDIS operates NOAA's National Centers for Environmental Information (NCEI). Through NCEI, NESDIS provides and ensures timely access to global environmental data from satellites and other sources, provides information services, and develops science products.

NESDIS maintains some 1,300 databases containing over 2,400 environmental variables at NCEI and 7 World Data Centers. These centers respond to over 2,000,000 requests for these data and products annually from over 70 countries, the vast majority of which are fulfilled at no fee to the requestor via NOAA CLASS. This collection of environmental data and products is growing rapidly, both in size and sophistication, and as a result the associated costs have increased.

If CLASS is unable to meet a user's need, users have the ability to access the special data products described in the table in Appendix A to part 950 offline, online and through the NESDIS e-Commerce System (NeS) online store. Our ability to provide these special data, information, products and services depends on user fees.

New Fee Schedule

NESDIS is authorized under 15 U.S.C. 1534 to assess fees, based on fair market value, depending upon the user and intended use, for access to environmental data, information, and products derived from, collected, and/or archived by NOAA. In this final rule, NESDIS establishes a new schedule of fees for access to these special data, information, and related products and services. NESDIS is revising the fee schedule that has been in effect since 2021 to ensure that the fees accurately reflect the costs of providing access to the environmental data, information, and related products and services. The new fee schedule lists both the current fee charged for each item and the new fee to be charged to users that will take effect beginning September 30, 2023. The schedule applies to the listed services provided by NESDIS on or after September 30, 2023, except for products and services covered by a subscription agreement in effect as of September 30, 2023that extends beyond September 30, 2023. In those cases, the increased fees will apply upon renewal of the subscription agreement or at the earliest amendment date provided by the agreement.

NESDIS will continue to review these user fees periodically, and will revise such fees as necessary. Any future changes in the user fees and their effective date will be announced through notice in the Federal Register.

Classification

This rule has been determined to be significant for purposes of E.O. 12866.

The provisions of the Administrative Procedure Act (5 U.S.C. 553) requiring notice of proposed rulemaking and the opportunity for public participation are inapplicable because this rule falls within the public property exception of paragraph (a)(2) of section 553, as it relates only to the assessment of fees, as authorized by 15 U.S.C. 1534. Further, no other law requires that a notice of proposed rulemaking and an opportunity for public comment be given for this rule.

Because a notice of proposed rulemaking and an opportunity for public comment are not required to be given for this rule under 5 U.S.C. 553 or by any other law, the requirements of the Regulatory Flexibility Act (5 U.S.C. 601 et seq.) are not applicable. Accordingly, no Regulatory Flexibility Analysis is required and none has been prepared.

This rule contains no information collection requirements under the Paperwork Reduction Act of 1995.

List of Subjects in 15 CFR Part 950

Organization and functions (Government agencies).

Dated: August 15, 2023.
Douglas Whiteley,
Deputy Chief Financial Officer (DCFO), National Environmental Satellite, Data and Information Service.

For the reasons set forth above, NESDIS amends 15 CFR part 950 as follows:

PART 950—ENVIRONMENTAL DATA AND INFORMATION

1. The authority citation for part 950 continues to read as follows:

Authority: (15 U.S.C. 1534). Reorganization Plan No. 4 of 1970.

2. Revise Appendix A to part 950 to read as follows:

Appendix A to Part 950—Schedule of User Fees for Access to NOAA Environmental Data

Name of product/data/publication/information/service: NOAA National Center for Environmental Information | Current fee | New fee
Department of Commerce Certification | $153.00 | $168.00
General Certification | 133.00 | 146.00
Paper Copy | 10.00 | 11.00
Data Poster | 15.00 | 15.00
Shipping Service | 10.00 | 12.00
Rush order fee | 65.00 | 73.00
Super Rush Order Fee | 109.00 | 124.00
Foreign Handling Fee | 47.00 | 55.00
NEXRAD Doppler radar Color Prints | 27.00 | 29.00
Paper Copy from Electronic Media | 10.00 | 11.00
Offline In-Situ Digital Data | 113.00 | 125.00
Satellite Image Product | 75.00 | 82.00
Offline Satellite, Radar, and Model Digital Data (average unit size is 1 terabyte) | 455.00 | 612.00
Conventional CD-ROM/DVD | 94.00 | 104.00
Specialized CD-ROM/DVD | 204.00 | 226.00
CD-ROM/DVD Copy, Offline | 76.00 | 84.00
CD-ROM/DVD Copy, Online Store | 34.00 | 39.00
Order Handling/Quality Check | 23.00 | 26.00
Non-Digital Order Consultation | 13.00 | 14.00
Digital Order Consultation | 31.00 | 34.00
Single Orbit OLS & Subset | 19.00 | 20.00
Single Orbit OLS & Subset, Additional Orbits | 7.00 | 7.00
Global Nighttime Lights Monthly Composite—one satellite | 9,508.00 | 9,988.00
High Definition Geomagnetic Model | 24,129.00 | 26,714.00
High Definition Geomagnetic Model—Real Time (HDGM-RT) | 30,915.00 | 34,793.00
Expedited Shipping Service | New product | 29.00
Research Data Series CD-ROM/DVD | 20 | (*)
* Indicates a product no longer offered.

[FR Doc. 2023-17803 Filed 8-17-23; 8:45 am]

BILLING CODE 3510-HR-P